DEPARTMENT OF COMMERCE

International Trade Administration

[A-588-054 and A-588-604]

Tapered Roller Bearings, Four Inches or Less in Outside Diameter, and Components Thereof, From Japan, and Tapered Roller Bearings and Parts Thereof, Finished and Unfinished, From Japan: Final Court Decisions and Amended Final Results of Antidumping Duty Administrative Reviews

AGENCY: Import Administration, International Trade Administration, Department of Commerce.

ACTION: Notice of final court decisions and amended final results of antidumping duty administrative reviews.

SUMMARY: On November 7, 1996, the Department of Commerce (the Department) published the final results of its administrative reviews of the antidumping duty order on tapered roller bearings (TRBs) and parts thereof, finished and unfinished, from Japan (A-588-604), and the antidumping finding on TRBs, four inches or less in outside diameter, and components thereof, from Japan (A-588-054) for the period October 1, 1992 through September 30, 1993. See Tapered Roller Bearings and Parts Thereof, Finished and Unfinished, From Japan and Tapered Roller Bearings, Four Inches or Less in Outside Diameter, and Components Thereof, From Japan; Final Results of Antidumping Duty Administrative Reviews and Revocation in Part of an Antidumping Finding, 61 FR 57629 (November 7, 1996) (1992-93 TRBs from Japan). Subsequent to our publication of these final results, parties to the proceedings challenged certain aspects of our final results before the United States Court of International Trade (the CIT) and, in certain instances, before the United States Court of Appeals for the Federal Circuit (the Federal Circuit).

The CIT recently affirmed final remand results with respect to the 1992-93 final results. As there are now final and conclusive court decisions with respect to litigation for these parties, we are hereby amending our final results of review and will subsequently instruct Customs to liquidate entries subject to these reviews.

EFFECTIVE DATE: April 10, 2000.

FOR FURTHER INFORMATION CONTACT: Deborah Scott or Robert James, Import Administration, International Trade Administration, U.S. Department of Commerce, 14th Street and Constitution Avenue, NW, Washington, DC 20230; telephone (202) 482-2657 or (202) 482-0649, respectively.

SUPPLEMENTARY INFORMATION:

Background

Below is a summary of the litigation for the 1992-93 final results for which the CIT and Federal Circuit have issued final and conclusive decisions.

On November 7, 1996, we published in the Federal Register our notice of the final results of administrative reviews for the 1992-93 period of review (POR) for 16 manufacturers/resellers/exporters (see 1992-93 TRBs from Japan). Subsequent to the publication of these final results, the petitioner (The Timken Co. (Timken)) and two respondents, NSK Ltd. (NSK), and NTN Corporation (NTN), challenged various aspects of our final results before the CIT. (See CIT Ct. Nos. 96-12-02686, 96-12-02730, and 96-12-02740, which were consolidated into Consolidated Court No. 96-12-02686.) The CIT has issued decisions with respect to this litigation which are now final and conclusive.

The decisions issued by the CIT and Federal Circuit with respect to the Department's final results were as follows:

• Timken v. U.S., 989 F. Supp. 234 (CIT 1997). The CIT remanded the case and ordered the Department to: (1) treat NTN's home market discounts and NSK's return rebates, post-sales price adjustments (PSPAs), lump-sum PSPAs, and stock transfer commissions as direct expenses; (2) investigate possible dumping of relevant Honda TRB sales during the period April 1, 1993 through March 31, 1997 and, upon a determination that Honda's dumping margin has been zero or de minimis for this period and pursuant to a request for revocation by Honda, revoke the antidumping order with respect to Honda; (3) exclude any zero-priced sample sales from NSK's sales database; (4) recalculate the below-cost sales for NSK using the COP database submitted by NSK's related supplier of inputs; (5) (a) explain the circumstances in which it treats related-party commissions as intra-company transfers when it applies its test for determining whether a circumstance-of-sale adjustment should be made to foreign market value (FMV) for commissions, (b) explain conflicting statements as to whether NTN's commission payments were included in or excluded from indirect selling expenses for exporter's sales price (ESP) transactions, and (c) reconsider its treatment of the commission payments to NTN's related U.S. affiliate; (6) reconsider its treatment of NTN's U.S. and home market selling expenses with respect to level of trade; and (7) allow NTN's downward adjustment to U.S. indirect selling expenses for interest incurred when financing antidumping duty cash deposits.

• Timken v. U.S., 46 F. Supp. 2d 1052 (CIT 1999). The CIT affirmed the Department's remand results and dismissed the litigation for Consolidated Court No. 96-12-02686.

• Timken v. U.S., 1 F. Supp. 2d 1390 (CIT 1998). The CIT granted the Department's and Honda's motions for reconsideration of the Honda issue and set aside the portions of its decision in the 96-12-02686 litigation ordering the Department to investigate possible dumping by Honda during the 1993 through 1997 period. The CIT thereby affirmed the Department's revocation of Honda as described in 1992-93 TRBs from Japan.

• NTN v. U.S., No. 99-1461 (Fed. Cir. November 5, 1999). Pursuant to NTN's voluntary motion to dismiss, the Federal Circuit dismissed NTN's appeal of the CIT's decisions in the 96-12-02686 litigation.

As there are now final and conclusive court decisions with respect to the 96-12-02686 litigation, we are amending our final results of review for NSK and NTN based on our recalculation of NSK's and NTN's rates pursuant to the remand. The amended final results margins for NSK are 11.42 percent in the A-588-054 review and 10.28 percent in the A-588-604 review. The amended final results margin for NTN in the A-588-604 review is 16.55 percent.¹ We will issue instructions to Customs to liquidate entries of subject merchandise made by NSK and NTN during this period pursuant to these amended final results.

¹ The A-588-054 antidumping finding does not cover TRBs manufactured by NTN.

Since the CIT affirmed the Department's revocation of Honda, we will issue instructions to Customs to liquidate entries of subject merchandise exported by Honda as described in 1992-93 TRBs from Japan at 57652.

In addition, as we have not amended the margins of any of the remaining manufacturers/resellers/exporters subject to the 1992-93 administrative reviews of TRBs from Japan, we will issue instructions to Customs to liquidate entries of subject merchandise based on the rates published in 1992-93 TRBs from Japan.

Amendment to Final Determinations

Pursuant to 19 U.S.C. 1516(f), we are now amending the final results of the 1992-93 administrative reviews of the antidumping finding and duty order on TRBs from Japan. The amended weighted-average margins are:

Manufacturer/exporter | Margin (percent)
For the A-588-054 finding:
NSK | 11.42
For the A-588-604 duty order:
NSK | 10.28
NTN | 16.55

Accordingly, the Department will determine and Customs will assess appropriate antidumping duties on entries of the subject merchandise made by firms covered by the review of the period listed above. The Department will issue appraisement instructions directly to Customs.

Dated: March 27, 2000.
Robert LaRussa,
Assistant Secretary for Import Administration.

[FR Doc. 00-8823 Filed 4-7-00; 8:45 am]

BILLING CODE 3510-DS-P